NATIONAL AERONAUTICS AND SPACE ADMINISTRATION

[Notice (06-071)]

Government-Owned Inventions Available for Licensing

AGENCY: National Aeronautics and Space Administration.

ACTION: Notice of availability of iInventions for licensing.

SUMMARY: The inventions listed below assigned to the National Aeronautics and Space Administration, have been filed in the United States Patent and Trademark Office, and are available for licensing.

DATES: September 26, 2006.

FOR FURTHER INFORMATION CONTACT: Kent N. Stone, Patent Counsel, Glenn Research Center at Lewis Field, Code 500-118, Cleveland, OH 44135; telephone (216) 433-8855; fax (216) 433-6790.

NASA Case No. LEW-17345-2: Temporal Laser Pulse Manipulation Using Multiple Optical Ring Cavities;

NASA Case No. LEW-17786-1: Fully-Premixed Low-Emissions High-Pressure Multi-Fuel Burner;

NASA Case No. LEW-17826-1: Method and System for Fiber Optic Determination of Nitrogen and Oxygen Concentrations in Ullage of Liquid Fuel Tanks;

NASA Case No. LEW-17814-1: Multi-Wavelength Time-Coincident Optical Communications System;

NASA Case No. LEW-17859-1: Miniaturized Metal (Metal Alloy)/PdOx/SiC Schottky Diode Gas Sensors for Hydrogen and Hydrocarbons Detection at High Temperatures.

Dated: September 19, 2006.
Keith T. Sefton,
Deputy General Counsel, Administration and Management.

[FR Doc. E6-15688 Filed 9-25-06; 8:45 am]

BILLING CODE 7510-13-P